DEPARTMENT OF ENERGY

Federal Energy Regulatory Commission

[Project No. 1773-042]

Moon Lake Electric Association, Inc.; Notice of Availability of Environmental Assessment

In accordance with the National Environmental Policy Act of 1969 and the Federal Energy Regulatory Commission's (Commission or FERC) regulations, 18 Code of Federal Regulations (CFR) part 380, Commission staff reviewed Moon Lake Electric Association, Inc.'s application to surrender the project license of the Yellowstone Hydroelectric Project No. 1773 and have prepared an Environmental Assessment (EA). The licensee proposes to surrender the license for the project and decommission the project facilities, which includes removing the project dam, abutments, and penstock. The licensee would also restore the reach of the Yellowstone River affected by the dam and reservoir by using sediments to rebuild the channel, and reclaim upland areas disturbed. The project is located on the Yellowstone River in Duchesne County, Utah, within the Ashley National Forest, administered by the U.S. Department of Agriculture's Forest Service, and within the Uintah and Ouray Reservations.

The EA contains Commission staff's analysis of the potential environmental effects of the proposed surrender of the project license, and concludes that, with appropriate environmental protective measures, it would not constitute a major federal action that would significantly affect the quality of the human environment.

The Commission provides all interested persons with an opportunity to view and/or print the EA via the internet through the Commission's Home Page (http://www.ferc.gov) using the “eLibrary” link. Enter the docket number, excluding the last three digits in the docket number field, to access the document. For assistance, contact FERC Online Support at FERCOnlineSupport@ferc.gov or toll-free at (866) 208-3676, or for TTY, (202) 502-8659.

You may also register online at https://ferconline.ferc.gov/eSubscription.aspx to be notified via email of new filings and issuances related to this or other pending projects. For assistance, contact FERC Online Support.

For further information, contact Marybeth Gay at 202-502-6125 or Marybeth.Gay@ferc.gov.

Dated: September 30, 2022.
Kimberly D. Bose,
Secretary.

[FR Doc. 2022-21765 Filed 10-5-22; 8:45 am]

BILLING CODE 6717-01-P